DEPARTMENT OF TRANSPORTATION

Federal Aviation Administration

14 CFR Part 39

[Docket No. 99-SW-34-AD]

Airworthiness Directives; Eurocopter France Model SA-365N1, AS-365N2, and SA-366G1 Helicopters

AGENCY: Federal Aviation Administration, DOT.

ACTION: Notice of proposed rulemaking (NPRM).

SUMMARY: This document proposes the adoption of a new airworthiness directive (AD), applicable to Eurocopter France Model SA-365N1, AS-365N2, and SA-366G1 helicopters. This proposal would require conducting inspections of each tail rotor blade for bonding separation, measuring the clearance between the tip of each tail rotor blade and the circumference of the air duct, and replacing the blade if necessary. This proposal is prompted by an inflight incident in which the tail rotor blades were significantly damaged due to bonding separation. The actions specified by the proposed AD are intended to prevent damage to a tail rotor blade, loss of tail rotor control, and subsequent loss of control of the helicopter.

DATES: Comments must be received on or before May 1, 2000.

ADDRESSES: Submit comments in triplicate to the Federal Aviation Administration (FAA), Office of the Regional Counsel, Southwest Region, Attention: Rules Docket No. 99-SW-34-AD, 2601 Meacham Blvd., Room 663, Fort Worth, Texas. Comments may be inspected at this location between 9 a.m. and 3 p.m., Monday through Friday, except Federal holidays.

FOR FURTHER INFORMATION CONTACT: Sharon Miles, Aerospace Engineer, FAA, Rotorcraft Directorate, Rotorcraft Standards Staff, Fort Worth, Texas 76193-0111, telephone (817) 222-5122, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket No. 99-SW-34-AD.” The postcard will be date stamped and returned to the commenter.

Availability of NPRMs

Any person may obtain a copy of this NPRM by submitting a request to the FAA, Office of the Regional Counsel, Southwest Region, Attention: Rules Docket No. 99-SW-34-AD, 2601 Meacham Blvd., Room 663, Fort Worth, Texas 76137.

Discussion

The Direction Generale De L'Aviation Civile (DGAC), the airworthiness authority for France, notified the FAA that an unsafe condition may exist on Eurocopter France Model SA-365N1, AS-365N2, and SA-366G1 helicopters. The DGAC advises of an inflight incident of bonding separation of a tail rotor blade on a Model SA-366G1 helicopter.

Eurocopter France issued Service Bulletins 05.09, Revision 5, applicable to the Model SA-366G1, and 05.00.17, Revision 5, applicable to the Models SA-365N1 and AS-365N2 dated December 18, 1998 (SB). The SB's specify inspecting the Model SA-365N1, AS-365N2, and SA-366G1 helicopters to detect bonding separation of tail rotor blade part number (P/N) 365A33-2131, 365A12-0010, and 365A12-0020, all dash numbers; measuring the blade-to-air duct for a clearance of less than 3 mm; and replacing each tail rotor blade with an airworthy blade if necessary. The DGAC classified these SB's as mandatory and issued AD's 88-152-010(A)R5 and 88-153-023(A)R5, both dated December 30, 1998, to ensure the continued airworthiness of these helicopters in France.

These helicopter models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Since an unsafe condition has been identified that is likely to exist or develop on other Eurocopter France Model SA-365N1, AS-365N2, and SA366G1 helicopters with tail rotor blades, P/N 365A33-2131, 365A12-0010, or 365A12-0020, all dash numbers, installed, of the same type designs registered in the United States, the proposed AD would require conducting inspections of each tail rotor blade for bonding separation, measuring for a blade-to-air duct clearance of less than 3 mm, and replacing any unairworthy blade with an airworthy blade if necessary.

The FAA estimates that 136 helicopters of U.S. registry would be affected by this proposed AD, that it would take approximately 1 work hour per helicopter to accomplish the proposed actions, and that the average labor rate is $60 per work hour. Required parts would cost approximately $1,000 per helicopter. Based on these figures, the total cost impact of the proposed AD on U.S. operators is estimated to be $144,160.

The regulations proposed herein would not impose substantial direct compliance costs on states or local governments or have substantial direct effects on the States, on the relationship between the national government and the States, or on the distribution of power and responsibilities among the various levels of government. Therefore, in accordance with Executive Order 13132, the FAA has not consulted with States or local authorities prior to the publication of this notice.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 99-SW-34-AD.

Applicability: Model SA-365N1, AS-365N2, and SA-366G1 helicopters, with a tail rotor blade, part number (P/N) 365A33-2131, 365A12-0010, or 365A12-0020, all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent damage to a tail rotor blade (blade), loss of tail rotor control, and subsequent loss of control of the helicopter:

(a) Within 10 hours time-in-service (TIS) and thereafter prior to the first flight of each day, conduct the following visual inspection of each blade (see Figure 1):

(1) Zone A: If a blister is detected on the blade suction face, conduct a tapping test inspection on the whole blade for bonding separation. If bonding separation or a crack is found, replace the blade with an airworthy blade before further flight.

(2) Zone B: If a crack, wrinkling, or a blister is found, replace the blade with an airworthy blade before further flight.

(b) Within 10 hours TIS, conduct a tapping test inspection on each blade. If there is bonding separation, replace the blade with an airworthy blade before further flight.

Note 2: Revisions 5, of Eurocopter France Service Bulletins 05.09 and 05.00.17, both dated December 18, 1998, pertain to the subject of this AD.

(c) Thereafter, at intervals not to exceed 25 hours TIS or every 50 cycles (each takeoff and landing equals 1 cycle), whichever occurs first, conduct a tapping test inspection for bonding separation on all blades with a serial number (S/N) less than 18912, and blades, P/N 365A12-0020-00 or 365A12-0020-01, with a S/N equal to or greater than 18912. If bonding separation or a crack is found, replace the blade with an airworthy blade before further flight.

(d) Thereafter, at intervals not to exceed 100 hours TIS or 200 cycles, whichever occurs first, conduct a tapping test inspection for bonding separation on blades, P/N 365A12-0020-02 or 365A12-0020-03. If bonding separation or a crack is found, replace the blade with an airworthy blade before further flight.

(e) Within 10 hours TIS, and thereafter at intervals not to exceed 100 hours TIS or 200 cycles, whichever occurs first, measure the blade-to-air duct clearance. If the clearance is less than 3 mm, replace the blade with an airworthy blade before further flight.

BILLING CODE 4910-3-U

(f) An alternative method of compliance or adjustment of the compliance time that provides an acceptable level of safety may be used if approved by the Manager, Regulations Group, Rotorcraft Directorate FAA. Operators shall submit their requests through an FAA Principal Maintenance Inspector, who may concur or comment and then send it to the Manager, Regulations Group.

Note 3: Information concerning the existence of approved alternative methods of compliance with this AD, if any, may be obtained from the Regulations Group.

(g) Special flight permits may be issued in accordance with §§ 21.197 and 21.199 of the Federal Aviation Regulations (14 CFR 21.197 and 21.199) to operate the helicopter to a location where the requirements of this AD can be accomplished.

Note 4: The subject of this AD is addressed in Direction Generale De L'Aviation Civile AD's 88-152-010(A)R5 and 88-153-023(A)R5, both dated December 30, 1998.

Issued in Fort Worth, Texas, on February 22, 2000.
Henry A. Armstrong,
Manager, Rotorcraft Directorate, Aircraft Certification Service.

[FR Doc. 00-4796 Filed 2-28-00; 8:45 am]

BILLING CODE 4910-13-C